DEPARTMENT OF THE INTERIOR

National Park Service

National Register of Historic Places; Notification of Pending Nominations and Related Actions

Nominations for the following properties being considered for listing or related actions in the National Register were received by the National Park Service before February 6, 2010. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by March 11, 2010.

J. Paul Loether,
Chief, National Register of Historic Places/National, Historic Landmarks Program.

ALASKA

Dillingham Borough-Census Area

Brooks Camp Boat House, (Tourism and Early Park Development Resources of Katmai National Park and Preserve) Shore of Naknek Lake, just N. of the Brooks River Mouth in Katmai National Park and Preserve, King Salmon, 10000071

Brooks River Historic Ranger Station, (Tourism and Early Park Development Resources of Katmai National Park and Preserve Shore of Naknek Lake, just N. of the Brooks River Mouth in Katmai National Park and Preserve, King Salmon, 10000072

IDAHO

Latah County

Troy Downtown Historic District, 339 S. Main St. through 527 S. Main St., Troy, 10000073

Minidoka County

Rupert Town Square Historic District (Boundary Increase), 702 E St. and 405 6th St., Rupert, 10000074

IOWA

Dubuque County

Roshek Brothers Department Store, 250 W. 8th St., Dubuque, 10000076

Linn County

Brown Apartments, 1234 4th Ave. SE, Cedar Rapids, 10000075

Polk County

Hawkeye Transfer Company Warehouse, 702 Elm St., Des Moines, 10000077

Schmitt and Henry Manufacturing Company, 309 SW 8th St., Des Moines, 10000078

Younker Brothers Department Store, 713 Walnut St., Des Moines, 10000079

NEBRASKA

Douglas County

Oft-Gordon House, 11523 156th St., Bennington, 10000080

Twin Towers, 3000,3002, 3002 ½ Farnam St. 3001 Douglas St., Omaha, 10000081

OHIO

Belmont County

Blaine Hill “S” Bridge, Township Rd. 649, Blane, Pease Township, 10000082

Crawford County

Harvey One-Room School, 1120 Caldwell Rd., Bucyrus, 10000083

Montgomery County

Grafton-Rockwood Historic District, Parts of Grafton, Homewood, Rockwood Ave, Oaks Ave, Old Orchard Ave., Dayton, 10000084

TENNESSEE

Giles County

Wilkinson-Martin House, 954 N. 1st St., Pulaski, 10000085

Knox County

Hotpoint Living-Conditioned Home, (Knoxville and Knox County MPS) 509 W. Hills Rd., Knoxville, 10000086

Union County

Hamilton-Tolliver Complex, 158 Kettle Hollow Rd., Maynardville, 10000087

VIRGINIA

Botetourt County

Gala Site, Address Restricted, Gala, 10000088

Campbell County

Caryswood, 8291 Colonial Hwy., Evington, 10000089

Floyd County

Oakdale, 5773 Franklin Pk., Floyd, 10000090

Request for REMOVAL has been made for the following resources:

TENNESSEE

Weakley County

Oakland, SR 22 and TN 89, Dresden, 82004065

VIRGINIA

Danville County

Dan River Inc. Riverside Division Historic District, Both sides of Dan River roughly bounded by Union St. Dam, Main St Bridge, and Riverside and Memorial Drs., Danville, 00000480

[FR Doc. 2010-3555 Filed 2-23-10; 8:45 am]

BILLING CODE P